DEPARTMENT OF TRANSPORTATION

Federal Railroad Administration

[Docket Number FRA-2000-8267]

Petition for Waiver of Compliance

In accordance with part 211 of title 49 Code of Federal Regulations (CFR) notice is hereby given that the Federal Railroad Administration (FRA) received a request for a waiver of compliance with certain requirements of its safety standards. The individual petition is described below, including the party seeking relief, the regulatory provisions involved, the nature of the relief being requested, and the petitioner's arguments in favor of relief.

Oil Creek & Titusville Lines

The Oil Creek & Titusville Lines (OCTL), seeks a waiver of compliance from certain provisions of the Safety Glazing Standards, 49 CFR 223, which requires certified glazing, for one locomotive. The OCTL is located in Titusville, Pennsylvania. The OCTL states they operate a short line freight operation and additionally an excursion railroad operation over 15.8 miles of track through rural countryside and one community on an average of two (2) round trips per week freight and three (3) round trips per week for passenger excursions.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2000-8267) and must be submitted in triplicate to the Docket Clerk, DOT Central Docket Management Facility, Room P1-401, Washington, DC 20590-0001. Communications received within 45 days of the date of this notice will be considered by FRA before final action been taken. Comments received after that date will be considered as far as practicable. All written communications concerning the proceedings are available for examination during regular business hours (9:00 a.m.-5:00 p.m.) at DOT Central Docket Management Facility, Room P10401 (Plaza Level), 400 Seventh Street, SW., Washington, DC. All documents in the public docket are also available for inspection and copying on the internet at the docket facility's Web site at http://dms.dot.gov.

Issued in Washington, DC, on January 11, 2001.
Grady C. Cothen, Jr.,
Deputy Associate Administrator for Safety Standards and Program Development.

[FR Doc. 01-1554 Filed 1-17-01; 8:45 am]

BILLING CODE 4910-06-P